DEPARTMENT OF THE INTERIOR

National Park Service

[NPS-WASO-NRNHL-24925; PPWOCRADI0, PCU00RP14.R50000]

National Register of Historic Places; Notification of Pending Nominations and Related Actions

AGENCY: National Park Service, Interior.

ACTION: Notice.

SUMMARY: The National Park Service is soliciting comments on the significance of properties nominated before January 20, 2018, for listing or related actions in the National Register of Historic Places.

DATES: Comments should be submitted by March 8, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before January 20, 2018. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Maricopa County

Ponderosa II, 602 S. Edgewater Dr., Mesa, SG100002146

ILLINOIS

Coles County

Burgess-Osborne Memorial Auditorium, 1701 Wabash Ave., Mattoon, SG100002149

Kankakee County

Kankakee Downtown Historic District, Roughly bounded by West Ave., Oak, Indiana & Station Sts., Kankakee, SG100002150

KENTUCKY

Allen County

Halcomb, Dr. Francis Joseph (F.J.) Jr., House, 253 Franklin Rd., Scottsville, SG100002152

Campbell County

Bonnie Leslie Historic District, Bounded by Memorial Pkwy., Taylor, Wilson, Berry & Anspaugh Aves., Bellevue, SG100002153

Edmonson County

Chalybeate Springs Hotel Springhouse, 2327 Chalybeate Rd., Smiths Grove vicinity, SG100002154

Jefferson County

LeCompte Saloon, 3200 Rudd Ave., Louisville, SG100002155

Queen Products Company, Inc. Complex, 1226-1234 Rowan St., Louisville, SG100002157

Mason County

Durrett, Richard, House, 804 Clarks Run Rd., Maysville, SG100002158

GAR Monument, Maysville-Mason County Cemetery, 1521 Forest Ave., Maysville, MP100002159

May's Lick Negro School, 5003 Raymond Rd., May's Lick, SG100002160

MASSACHUSETTS

Worcester County

Osgood Bradley Building, 18 Grafton St., Worcester, SG100002161

MINNESOTA

Fillmore County

Chicago, Milwaukee, St. Paul and Pacific Railroad Depot, NW corner of intersection of W Prairie Ave. & Main St. N, Fillmore, MP100002162

NEBRASKA

Burt County

Tekamah Auditorium, 1315 K St., Tekamah, SG100002164

Dixon County

Emerson City Park, Square block between 4th, 5th, Main & Logan Sts., Emerson, SG100002165

Perkins County

Venango Public School, 201 E Washington St., Venango, MP100002170

NEW JERSEY

Salem County

Mecum, William and Margaret, House, 168 Lighthouse Rd., Pennsville Township, MP100002172

WISCONSIN

Milwaukee County

Fifth Street School, 2770 N 5th St., Milwaukee, SG100002175

An owner objection received for the following resource:

KENTUCKY

Jefferson County

Louisville Railway Company High Street Power Station, 2005 Northwestern Pkwy., Louisville, SG100002156

A request for removal has been made for the following resources:

NEBRASKA

Douglas County

Barton, Guy C., House, 3522 Farnam St., Omaha, OT73001060

Monmouth Park School, 4508 N. 33rd St., Omaha, OT83003988

Main Street Bridge, (Highway Bridges in Nebraska MPS), Main St. over W. Papillion Cr., Elkhorn, OT92000746

Fillmore County

Eberhardt, Philip and Addie Ellis, Farmstead, 3 mi. N of US 6, Exeter vicinity, OT91000299

Additional documentation has been received for the following resources:

OREGON

Multnomah County

Public Service Building and Garage, 920 6th Ave., SW, Portland, AD96000998

WEST VIRGINIA

Wood County

Avery Street Historic District, Roughly bounded by Nineteenth, Spring and Quincy, Eighth, and Market Sts., Parkersburg, AD86000849

Nominations submitted by Federal Preservation Officers:

The State Historic Preservation Officer reviewed the following nominations and responded to the Federal Preservation Officer within 45 days of receipt of the nominations and supports listing the properties in the National Register of Historic Places.

CALIFORNIA

Marin County

Point Reyes Peninsula Dairy Ranches Historic District, Point Reyes NS, Inverness vicinity, SG100002147

COLORADO

Larimer County

Fall River Entrance Historic District (Boundary Increase and Additional Documentation), (Rocky Mountain National Park MRA), Rocky Mountain NP, Estes Park vicinity, BC100002148

Authority: 60.13 of 36 CFR part 60.

Dated: January 25, 2018.
Julie H. Ernstein,
Acting Chief, National Register of Historic Places/National Historic Landmarks Program.

[FR Doc. 2018-03539 Filed 2-20-18; 8:45 am]

BILLING CODE 4312-52-P